DEPARTMENT OF DEFENSE

Department of the Army; Corps of Engineers

33 CFR Part 334

United States Navy Restricted Area, Naval Support Activity, Panama City, FL

AGENCY: U.S. Army Corps of Engineers, DoD.

ACTION: Notice of proposed rulemaking and request for comments.

SUMMARY: The U.S. Army Corps of Engineers (Corps) is proposing to establish ten restricted areas at Naval Support Activity (NSA), Panama City (PC), Florida. NSA, Panama City, and its major tenant command, the Naval Surface Warfare Center (NSWC), have been recognized as one of the lead research, development, test and evaluation laboratories of the U.S. Navy. In addition, the Naval Diving and Salvage Training Center (NDSTC) relocated from the Washington Navy Yard to NSA PC and now hosts a consolidated training for the U.S. Army Corps of Engineers, U.S. Coast Guard, the Navy's satellite dive schools, the U.S. Marine Corps and the U.S. Air Force. As such, a large majority of military dive training is now concentrated at NSA, PC. The proposed restricted areas in Panama City waters meet strict military training parameters that cannot be duplicated elsewhere. Military training in and around St. Andrews Bay has existed in harmony with local boat traffic and development since 1945. NSA, PC requests to formalize these ongoing activities within the waters of St. Andrews Bay in efforts to maximize public safety and to preserve current military training vital to the Global War on Terror and to all service military readiness.

DATES: Written comments must be submitted on or before August 17, 2007.

ADDRESSES: You may submit comments, identified by docket number COE-2007-0017, by any of the following methods:

Federal eRulemaking Portal: http://www.regulations.gov. Follow the instructions for submitting comments.

E-mail: david.b.olson@usace.army.mil. Include the docket number COE-2007-0017 in the subject line of the message.

Mail: U.S. Army Corps of Engineers, Attn: CECW-CO (David B. Olson), 441 G Street NW, Washington, DC 20314-1000.

Hand Delivery/Courier: Due to security requirements, we cannot receive comments by hand delivery or courier.

Instructions: Direct your comments to docket number COE-2007-0017. All comments received will be included in the public docket without change and may be made available on-line at http://regulations.gov, including any personal information provided, unless the commenter indicates that the comment includes information claimed to be Confidential Business Information (CBI) or other information whose disclosure is restricted by statute. Do not submit information that you consider to be CBI, or otherwise protected, through regulations.gov or e-mail. The regulations.gov web site is an anonymous access system, which means we will not know your identity or contact information unless you provide it in the body of your comment. If you send an e-mail directly to the Corps without going through regulations.gov, your e-mail address will be automatically captured and included as part of the comment that is placed in the public docket and made available on the Internet. If you submit an electronic comment, we recommend that you include your name and other contact information in the body of your comment and with any disk or CD-ROM you submit. If we cannot read your comment because of technical difficulties and cannot contact you for clarification, we may not be able to consider your comment. Electronic comments should avoid the use of any special characters, any form of encryption, and be free of any defects or viruses.

Docket: For access to the docket to read background documents or comments received, go to http://www.regulations.gov. All documents in the docket are listed. Although listed in the index, some information is not publicly available, such as CBI or other information whose disclosure is restricted by statute. Certain other material, such as copyrighted material, is not placed on the Internet and will be publicly available only in hard copy form.

Consideration will be given to all comments received within 30 days of the date of publication of this notice.

FOR FURTHER INFORMATION CONTACT: Mr. David Olson, Headquarters, Operations and Regulatory Community of Practice, Washington, DC at 202-761-4922 or Ms. Teresa Zar, U.S. Army Corps of Engineers, Jacksonville District, Panama City Regulatory Field Office at 850-763-0717 ext 26.

SUPPLEMENTARY INFORMATION: Pursuant to its authorities in Section 7 of the Rivers and Harbors Act of 1917 (40 Stat. 266; 33 U.S.C. 1) and Chapter XIX of the Army Appropriations Act of 1919 (40 Stat. 892; 33 U.S.C. 3) the Corps is proposing to amend the regulations in 33 CFR part 334 by establishing ten separate restricted areas.

Procedural Requirements

a. Review Under Executive Order 12866. The proposed rules are issued with respect to a military function of the Defense Department and the provisions of Executive Order 12866 do not apply.

b. Review Under the Regulatory Flexibility Act. The proposed rules have been reviewed under the Regulatory Flexibility Act (Pub. L. 96-354) which requires the preparation of a regulatory flexibility analysis for any regulation that will have a significant economic impact on a substantial number of small entities (i.e., small businesses and small governments). Unless information is obtained to the contrary during the public notice comment period, the Corps expects that the economic impact of the proposed restricted areas would have practically no impact on the public, any anticipated navigational hazard or interference with existing waterway traffic. These proposed rules, if adopted, will have no significant economic impact on small entities.

c. Review Under the National Environmental Policy Act. The Corps expects that these proposed regulations will not have a significant impact to the quality of the human environment and, therefore, preparation of an environmental impact statement will not be required. An environmental assessment will be prepared after the public notice period is closed and all comments have been received and considered. After it is prepared, it may be reviewed at the District office listed at the end of the FOR FURTHER INFORMATION CONTACT, above.

d. Unfunded Mandates Act. These proposed rules do not impose an enforceable duty among the private sector and, therefore, are not a Federal private sector mandate and are not subject to the requirements of Section 202 or 205 of the Unfunded Mandates Reform Act (Pub. L. 104-4, 109 Stat. 48, 2 U.S.C. 1501 et seq.). We have also found under Section 203 of the Act, that small governments will not be significantly or uniquely affected by these rules.

List of Subjects in 33 CFR, Part 334

Danger zones, Navigation (water), Restricted areas, Waterways.

For the reasons set out in the preamble, the Corps proposes to amend 33 CFR part 334 as follows:

PART 334—DANGER ZONE AND RESTRICTED AREA REGULATIONS

1. The authority citation for 33 CFR part 334 continues to read as follows:

Authority: 40 Stat. 266 (33 U.S.C. 1) and 40 Stat. 892 (33 U.S.C. 3).

2. Add § 334.761 to read as follows:

§ 334.761 Naval Support Activity Panama City; St. Andrews Bay; restricted areas.

(a) The areas—(1) Area AP-1. Bounded by a line drawn in the direction of : latitude 30°10′00″ N, longitude 085°44′37″ W; latitude 30°10′00″ N, longitude 085°43′17″ W; latitude 30°09′51″ N, longitude 085°43′17″ W; latitude 30°09′50″ N, longitude 085°44′37″ W. 1.259 nm @ 185°T from center of Hathaway Bridge to NW corner; 1.659 nm @ 139°T to NE corner; 1.788 nm @ 143°T to SE corner; 1.426 nm @ 183°T to SW corner.

(2) Area BA-1. Bounded by a line drawn in the direction of: latitude 30°11′14″ N, longitude 085°44′59″ W; latitude 30°11′13″ N, longitude 085°44′32″ W; latitude 30°10′31″ N, longitude 085°44′32″ W; latitude 30°10′32″ N, longitude 085°44′59″ W @ 0.432 nm @ 268°T from center of Hathaway Bridge to NW corner; 63.8 yds @ 180°T to NE corner; 0.726 nm @ 180°T to SE corner; 0.825 nm @ 208°T to SW corner.

(3) Area BA-2. Bounded by a line drawn in the direction of: latitude 30°11′13″ N, longitude 085°44′ 32″ W; latitude 30°11′7″ N, longitude 085°44′0″ W; latitude 30°10′32″ N, longitude 085°44′0″ W; latitude 30°10′31″ N, longitude 085°44′32″ W. 63.8 yds @ 180°T from center of Hathaway Bridge to NW corner @ 0.489 nm @ 107°T to NE corner; 0.861 nm @ 147°T to SE corner; 0.726 nm @ 180°T to SW corner.

(4) Area BA-3. Bounded by a line drawn in the direction of: latitude 30°10′32″ N, longitude 085°44′59″ W; latitude 30°10′32″ N, longitude 085°44′9″ W; latitude 30°10′00″ N, longitude 085°44′9″ W; latitude 30°10′ 00″ N, longitude 085°44′40″ W. 0.825 nm @ 208°T from center of Hathaway Bridge to NW corner @ 0.797 nm @ 156°T to NE corner; 1.303 nm @ 165°T to SE corner; 1.266 nm @ 185°T to SW corner.

(5) Area BA-4. Bounded by a line drawn in the direction of: latitude 30°10′32″ N, longitude 085°44′9″ W; latitude 30°10′32″ N, longitude 085°42′35 W; latitude 30°10′0″ N, longitude 085°42′35″ W; latitude 30°10′00″ N, longitude 085°44′9″ W. 0.797 nm @ 156°T from center of Hathaway Bridge to NW corner; 1.835 nm @ 113°T to NE corner; 2.106 nm @ 127°T to SE corner; 1.303 nm @ 165°T to SW corner.

(6) Area BA-5. Bounded by a line drawn in the direction of: latitude 30°08′41″ N, longitude 085°41′25″ W; latitude 30°08′8″ N, longitude 085°40′48″ W; latitude 30°07′0″ N, longitude 085°42′29″ W; latitude 30°07′31″ N, longitude 085°43′9″ W. 3.734 nm @ 134°T from center of Hathaway Bridge to NW corner; 4.484 nm @ 134°T to NE corner; 4.616 nm @ 157°T to SE corner; 3.927 nm @ 162°T to SW corner.

(b) The restrictions. (1) For the purposes of this section, “military security zones” are areas established by safety vessels that accompany each training exercise and ward off private boat traffic by offering them navigational advice to remain clear of the exercise.

(2) Area AP-1. In the area described in paragraph (a)(1) of this section, non-residents (i.e., boat owners who do not own property south of the area described in paragraph (a)(1) of this section) and their vessels may not enter or remain within the restricted area from 0700 hrs to 0400 hrs. Residents and their vessels may not enter or remain within military security zones established in the restricted area during training events. All other civilian water-borne activities (fishing, trolling, waterskiing, jet-skiing, etc.) are prohibited in the restricted area during training activities.

(3) Areas BA-1 through BA-5. In the areas described in paragraphs (a)(2) through (a)(6) of this section, no person or vessel may enter or remain within military security zones established in the restricted areas during training events. All other civilian water-borne activities (fishing, trolling, waterskiing, jet-skiing, etc.) are prohibited in the restricted areas during training activities.

(c) Enforcement. The regulations in this section shall be enforced by the Officer in Charge, Naval Support Activity Panama City, Panama City Beach Florida, and such agencies as he/she may designate.

3. Add § 334.762 to read as follows:

§ 334.762 Naval Support Activity Panama City; North Bay and West Bay; restricted areas.

(a) The areas—(1) Area NB-1. Bounded by a line drawn in the direction of: latitude 30°12′16″ N, longitude 085°44′14″ W; latitude 30°12′16″ N, longitude 085°43′1″ W; latitude 30°11′16″ N, longitude 085°44′14″ W; latitude 30°11′17″ N, longitude 085°44′49″ W. 1.046 nm @ 014°T from center of Hathaway Bridge to NW corner; 1.662 nm @ 053°T to NE corner; 0.262 nm @ 087°T to SE corner; 0.248 nm @ 278°T to SW corner.

(2) Area NB-2. Bounded by a line drawn in the direction of: latitude 30°14′0″ N, longitude 085°44′14″ W; latitude 30°14′0″ N, longitude 085°41′51″ W; latitude 30°12′16″ N, longitude 085°43′1″ W; latitude 30°12′ 16″ N, longitude 085°44′14″ W. 2.762 nm @ 005°T from center of Hathaway Bridge to NW corner; 3.584 nm @ 040°T to NE corner; 1.662 nm @ 053°T to SE corner; 1.046 nm @ 014°T to SW corner.

(3) Area NB-3. Bounded by a line drawn in the direction of: latitude 30°16′10″ N, longitude 085°46′52″ W; latitude 30°17′ ″ N, longitude 085°45′34″ W; latitude 30°14′56″ N, longitude 085°43′45″ W; latitude 30°14′ 1″ N, longitude 085°44′ 59″ W. 5.313 nm @ 338°T from center of Hathaway Bridge to NW corner; 5.852 nm @ 351°T to NE corner; 3.742 nm @ 010°T to SE corner; 2.802 nm @ 352°T to SW corner.

(b) The restrictions. (1) In the areas described in paragraphs (a)(1) through (a)(3) of this section, no person or vessel may enter or remain within military security zones established in the restricted area during training events. For the purposes of this section, “military security zones” are areas established by safety vessels that accompany each training exercise and ward off private boat traffic by offering them navigational advice to remain clear of the exercise. All other civilian water-borne activities (fishing, trolling, waterskiing, jet-skiing, etc.) are prohibited in the restricted areas during training activities.

(c) Enforcement. The regulations in this section shall be enforced by the Officer in Charge, Naval Support Activity Panama City, Panama City Beach Florida, and such agencies as he/she may designate.

4. Add § 334.763 to read as follows:

§ 334.763 Naval Support Activity Panama City; Gulf of Mexico; restricted area.

(a) The area. Bounded by a line drawn in the direction of: latitude 30°10′29″ N, longitude 085°48′20″ W; latitude 30°07′58″ N, longitude 085°44′44″ W; latitude 30°05′24″ N, longitude 085°47′29″ W; latitude 30°07′55″ N, longitude 085°51′5″ W. 4.921 nm @ 312°T from north jetty to St. Andrews Bay, (Colregs demarcation line) to NW corner; 0.944 nm @ 324°T to NE corner; 3.451 nm @ 238°T to SE corner; 6.098 nm @ 277°T to SW corner.

(b) The restrictions. In the area described in paragraph (a)(2) of this section, no person or vessel may enter or remain within military security zones established in the restricted area during training events. For the purposes of this section, “military security zones” are areas established by safety vessels that accompany each training exercise and ward off private boat traffic by offering them navigational advice to remain clear of the exercise. All other civilian water-borne activities (fishing, trolling, waterskiing, jet-skiing, etc.) are prohibited in the restricted areas during training activities.

(c) Enforcement. The regulations in this section shall be enforced by the Officer in Charge, Naval Support Activity Panama City, Panama City Beach Florida, and such agencies as he/she may designate.

Dated: July 13, 2007.
Lawrence A. Lang,
Acting Chief, Operations, Directorate of Civil Works.

[FR Doc. E7-13933 Filed 7-17-07; 8:45 am]

BILLING CODE 3710-92-P